DEPARTMENT OF AGRICULTURE

Forest Service

Notice of New Fee Site; Federal Lands Recreation Enhancement Act (TITLE VIII, Pub. L. 108-447)

AGENCY: Prescott National Forest, USDA Forest Service.

ACTION: Notice of New Fee site.

SUMMARY: The Prescott National Forest will begin charging fees for the Alto Pit OHV Campground. Fees paid at similar campgrounds on the Prescott National Forest have shown that publics appreciate and enjoy the availability of campgrounds and are willing to pay reasonable fees for use of such sites. The fee rates will be $15 per night for camping in single family camp units and $30 per unit per night for the double unit. The fee will include the current day use fee collected at the site. Funds from fees will be used for the operation and maintenance of Alto Pit OHV Campground.

DATES: Fees will be collected for camping starting May, 2007.

ADDRESSES: Forest Supervisor, Prescott National Forest, 344 S. Cortez St, Prescott, Arizona 86303.

FOR FURTHER INFORMATION CONTACT: Ann May, Landscape Architect, Prescott National Forest, 928-443-8017.

SUPPLEMENTARY INFORMATION: The Federal Recreation Lands Enhancement Act (Title VII, Pub. L. 198-447) directed the Secretary of Agriculture to publish a six month advance notice in the Federal Register whenever new recreation fee areas are established. This new fee will be reviewed by a Recreation Resource Advisory Committee prior to a final decision and implementation.

A business analysis and past history has shown that people expect to pay for recreation experiences such as camping, at developed sites on the Prescott National Forest. A market analysis indicates that the proposed fees for Alto Pitt OHV Campground are both reasonable and acceptable for this sort of recreation experience.

Dated: November 14, 2006.
Alan Quan,
Prescott National Forest Supervisor

[FR Doc. 06-9293 Filed 11-21-06; 8:45 am]

BILLING CODE 3410-11-M